DEPARTMENT OF ENERGY

Federal Energy Regulatory Commission

Combined Notice of Filings #1

Wednesday April 2, 2008.

Take notice that the Commission has received the following Natural Gas Pipeline Rate and Refund Report filings:

Docket Numbers: RP96-200-187.

Applicants: CenterPoint Energy Gas Transmission Company.

Description: CenterPoint Energy Gas Transmission Company submits a negotiated rate agreement with Laclede Energy Resources, Inc.

Filed Date: 03/31/2008.

Accession Number: 20080401-0029.

Comment Date: 5 p.m. Eastern Time on Monday, April 14, 2008.

Docket Numbers: RP96-200-188.

Applicants: CenterPoint Energy Gas Transmission Company.

Description: CenterPoint Energy Gas Transmission Company submits a negotiated rate agreement with Coral Energy Resources, LP.

Filed Date: 03/31/2008.

Accession Number: 20080401-0030.

Comment Date: 5 p.m. Eastern Time on Monday, April 14, 2008.

Docket Numbers: RP96-200-189.

Applicants: CenterPoint Energy Gas Transmission Company.

Description: CenterPoint Energy Gas Transmission Company submits a negotiated rate agreement with Aquila, Inc.

Filed Date: 03/31/2008.

Accession Number: 20080401-0031.

Comment Date: 5 p.m. Eastern Time on Monday, April 14, 2008.

Docket Numbers: RP96-200-190.

Applicants: CenterPoint Energy Gas Transmission Company.

Description: CenterPoint Energy Gas Transmission Company submits a negotiated rate agreement with Oneok Energy Services Company, LP.

Filed Date: 03/31/2008.

Accession Number: 20080401-0033.

Comment Date: 5 p.m. Eastern Time on Monday, April 14, 2008.

Docket Numbers: RP96-200-191.

Applicants: CenterPoint Energy Gas Transmission Company.

Description: CenterPoint Energy Gas Transmission Company submits two negotiated rate agreements with ConAgra Trade Group, Inc.

Filed Date: 03/31/2008.

Accession Number: 20080401-0032.

Comment Date: 5 p.m. Eastern Time on Monday, April 14, 2008.

Docket Numbers: RP96-272-071.

Applicants: Northern Natural Gas Company.

Description: Northern Natural Gas Company submits 47 Revised Sheet 66A et al to its FERC Gas Tariff, Fifth Revised Volume 1, to become effective 4/1/08.

Filed Date: 03/31/2008.

Accession Number: 20080401-0036.

Comment Date: 5 p.m. Eastern Time on Monday, April 14, 2008.

Docket Numbers: RP96-320-085.

Applicants: Gulf South Pipeline Company, LP.

Description: Gulf South Pipeline Company LP submits a negotiated rate letter agreement executed with Atmos Energy Corporation as Contract 35227.

Filed Date: 03/31/2008.

Accession Number: 20080401-0040.

Comment Date: 5 p.m. Eastern Time on Monday, April 14, 2008.

Docket Numbers: RP96-320-086.

Applicants: Gulf South Pipeline Company, LP.

Description: Gulf South Pipeline Company LP submits a negotiated rate letter agreement executed with Atmost Energy Corporation as Contract 35266.

Filed Date: 03/31/2008.

Accession Number: 20080401-0041.

Comment Date: 5 p.m. Eastern Time on Monday, April 14, 2008.

Docket Numbers: RP96-320-087.

Applicants: Gulf South Pipeline Company, LP.

Description: Gulf South Pipeline Company LP submits a negotiated rate letter agreement executed with Willmut Gas & Oil Co as Contract 35221.

Filed Date: 03/31/2008.

Accession Number: 20080401-0042.

Comment Date: 5 p.m. Eastern Time on Monday, April 14, 2008.

Docket Numbers: RP99-176-159.

Applicants: Natural Gas Pipeline Company of America.

Description: Natural Gas Pipeline Company of America LLC submits amendment with negotiated rate exhibits to existing Transportation Rate Schedule FTS Agreement w/Nicor Gas Company etc.

Filed Date: 03/31/2008.

Accession Number: 20080331-0173.

Comment Date: 5 p.m. Eastern Time on Monday, April 14, 2008.

Docket Numbers: RP08-285-000.

Applicants: Cheyenne Plains Gas Pipeline Company LLC.

Description: Cheyenne Plains Gas Pipeline Company, LLC submits First Revised Sheet 314 to FERC Gas Tariff, Original Volume 1, to become effective 4/28/08.

Filed Date: 03/27/2008.

Accession Number: 20080328-0133.

Comment Date: 5 p.m. Eastern.

Docket Numbers: RP08-291-000.

Applicants: Panhandle Eastern Pipe Line Company, LP.

Description: Panhandle Eastern Pipe Line Company LP submits their Annual Report of Flow Through of Penalty Revenues.

Filed Date: 03/31/2008.

Accession Number: 20080401-0038.

Comment Date: 5 p.m. Eastern Time on Monday, April 14, 2008.

Docket Numbers: RP08-292-000.

Applicants: Panhandle Eastern Pipe Line Company, LP.

Description: Panhandle Eastern Pipe Line Company LP submits Eighteenth Revised Sheet 4 et al. to FERC Gas Tariff, Third Revised Volume 1, to become effective 5/1/08.

Filed Date: 03/31/2008.

Accession Number: 20080401-0037.

Comment Date: 5 p.m. Eastern Time on Monday, April 14, 2008.

Docket Numbers: RP08-293-000.

Applicants: Natural Gas Pipeline Company of America.

Description: Penalty Revenue Crediting Report for Natural Gas Pipeline Company of America LLC.

Filed Date: 03/31/2008.

Accession Number: 20080331-5058.

Comment Date: 5 p.m. Eastern Time on Monday, April 14, 2008.

Docket Numbers: RP08-294-000.

Applicants: Northern Border Pipeline Company.

Description: Northern Border Pipeline Co submits Eleventh Revised Sheet 99 to FERC Gas Tariff, First Revised Volume 1.

Filed Date: 03/31/2008.

Accession Number: 20080401-0027.

Comment Date: 5 p.m. Eastern Time on Monday, April 14, 2008.

Docket Numbers: RP08-295-000.

Applicants: Columbia Gas Transmission Corporation.

Description: Columbia Gas Transmission Corp submits Seventh Revised Sheet 197 to FERC Gas Tariff, Second Revised Volume 1.

Filed Date: 03/31/2008.

Accession Number: 20080401-0028.

Comment Date: 5 p.m. Eastern Time on Monday, April 14, 2008.

Docket Numbers: RP08-297-000.

Applicants: Southern LNG Inc.

Description: Southern LNG, Inc submits First Revised Sheet 69 et al. to FERC Gas Tariff, Seventh Revised Volume 1.

Filed Date: 03/31/2008.

Accession Number: 20080401-0196.

Comment Date: 5 p.m. Eastern Time on Monday, April 14, 2008.

Docket Numbers: RP08-298-000.

Applicants: Cheyenne Plains Gas Pipeline Company LLC.

Description: Cheyenne Plains Gas Pipeline Co, LLC submits its Second Revised Sheet 200 et al. to its FERC Gas Tariff, Original Volume 1.

Filed Date: 03/31/2008.

Accession Number: 20080401-0195.

Comment Date: 5 p.m. Eastern Time on Monday, April 14, 2008.

Docket Numbers: RP08-299-000.

Applicants: National Fuel Gas Supply Corporation.

Description: National Fuel Gas Supply Corp submits copies of the 113th Revised Sheet 9 to its FERC Gas Tariff, Fourth Revised Volume 1.

Filed Date: 03/31/2008.

Accession Number: 20080401-0194.

Comment Date: 5 p.m. Eastern Time on Monday, April 14, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, D.C. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-7422 Filed 4-8-08; 8:45 am]

BILLING CODE 6717-01-P